FEDERAL MARITIME COMMISSION

[DOCKET NO. 24-27]

Notice of Filing of Complaint and Assignment; INTERNATIONAL LUMBER IMPORTS, INC., Complainant v. CEVA FREIGHT, LLC; ZIM INTEGRATED SHIPPING SERVICE LTD.; AND ZIM AMERICAN INTEGRATED SHIPPING SERVICES COMPANY CO. LLC, Respondents

Served: August 23, 2024.

Notice is given that a complaint has been filed with the Federal Maritime Commission (the “Commission”) by International Lumber Imports, Inc. (the “Complainant”) against CEVA Freight, LLC; ZIM Integrated Shipping Service Ltd.; and ZIM American Integrated Shipping Services Company Co. LLC. Complainant states that the Commission has subject matter jurisdiction over the complaint pursuant to the Shipping Act of 1984, as amended, 46 U.S.C. 40101 et seq., personal jurisdiction over ZIM Integrated Shipping Service Ltd. and ZIM American Integrated Shipping Services Company Co. LLC (“Respondent ZIM”) as a common carrier and a vessel-operating ocean common carrier, as these terms are defined in 46 U.S.C. 40102, and personal jurisdiction over CEVA Freight, LLC when acting as a regulated entity by attempting to pass through detention charges subject to the complaint.

Complainant is a corporation organized and existing under the laws of the State of Florida with its principal place of business in Sarasota, Florida.

Complainant identifies Respondent CEVA Freight, LLC as having an address in Miami, Florida and as acting as a delivery agent for Pyramid Lines Ltd., d/b/a Pyramid Lines, and as consignee on Respondent ZIM bills of lading for the shipments that are subject to the complaint.

Complainant identifies Respondent ZIM Integrated Shipping Service Ltd. as a global ocean carrier with a corporate address in Haifa, Israel, and as conducting business in the United States through ZIM American Integrated Shipping Services Company Co. LLC, with its principal corporate office in Norfolk, Virginia.

Complainant alleges that Respondent ZIM violated 46 U.S.C. 41102(c) and 46 CFR 545.5. Complainant alleges these violations arose from the assessment of detention charges during the period in which the containers were subject to a government hold, the assessment of demurrage charges that serve no incentivizing principle and do not promote freight fluidity, and a refusal to extend free time or waive or reduce demurrage charges for containers that were unavailable for pickup. Complainant alleges that Respondent CEVA Freight, LLC is interwound with the violations of Respondent ZIM and is a necessary and indispensable party.

An answer to the complaint must be filed with the Commission within 25 days after the date of service.

The full text of the complaint can be found in the Commission's electronic Reading Room at https://www2.fmc.gov/readingroom/proceeding/24-27/. This proceeding has been assigned to the Office of Administrative Law Judges. The initial decision of the presiding judge shall be issued by August 25, 2025, and the final decision of the Commission shall be issued by March 11, 2026.

David Eng,
Secretary.

[FR Doc. 2024-19672 Filed 8-30-24; 8:45 am]

BILLING CODE 6730-02-P